DEPARTMENT OF TRANSPORTATION

Federal Aviation Administration

14 CFR Part 71

[Docket No. FAA-2010-0002; Airspace Docket No. 09-ANM-32]

Amendment of Class E Airspace; Port Angeles, WA

AGENCY: Federal Aviation Administration (FAA), DOT.

ACTION: Final rule.

SUMMARY: This action will amend existing Class E airspace at Port Angeles, WA. The Ediz Hook Nondirectional Radio Beacon (NDB) has been decommissioned and removed. This will improve the safety and management of Instrument Flight Rules (IFR) operations at the airport.

DATES: Effective date, 0901 UTC, November 18, 2010. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue SW., Renton, WA 98057; telephone (425) 203-4537.

SUPPLEMENTARY INFORMATION:

History

On June 14, 2010, the FAA published in the Federal Register a notice of proposed rulemaking to amend controlled airspace at Port Angeles, WA (75 FR 33556). Interested parties were invited to participate in this rulemaking effort by submitting written comments on the proposal to the FAA. No comments were received.

Class E airspace designations are published in paragraph 6002 and 6005, respectively, of FAA Order 7400.9T signed August 27, 2009, and effective September 15, 2009, which is incorporated by reference in 14 CFR Part 71.1. The Class E airspace designations listed in this document will be published subsequently in that Order.

The Rule

This action amends Title 14 Code of Federal Regulations (14 CFR) Part 71 by amending Class E surface airspace, and Class E airspace extending upward from 700 feet above the surface, at William R. Fairchild International Airport, Port Angeles, WA, due to the decommissioning of the Ediz Hook NDB. This action is necessary for the safety and management of IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at William R. Fairchild International Airport, Port Angeles, WA.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR Part 71.1 of the Federal Aviation Administration Order 7400.9T, Airspace Designations and Reporting Points, signed August 27, 2009, and effective September 15, 2009 is amended as follows:

Paragraph 6002 Class E airspace designated as surface areas.

* * * * *

ANM WA, E2 Port Angeles, WA [Amended]

Port Angeles, William R. Fairchild International Airport, WA

(Lat. 48°07′13″ N., long. 123°29′59″ W.)

Within a 4.1-mile radius of the William R. Fairchild International Airport, and within 3 miles north and 2.2 miles south of the William R. Fairchild International Airport 079° bearing extending from the 4.1-mile radius to 11.4 miles east of the airport. This Class E airspace area is effective during specific dates and times established in advance by a Notice to Airmen. The effective date and time will thereafter be continuously published in the Airport/Facility Directory.

Paragraph 6005 Class E airspace areas extending upward from 700 feet or more above the surface of the earth.

* * * * *

ANM WA, E5 Port Angeles, WA [Amended]

Port Angeles, William R. Fairchild International Airport, WA

(Lat. 48°07′13″ N., long. 123°29′59″ W.)

Port Angeles CGAS

(Lat. 48°08′28″ N., long. 123°24′51″ W.)

That airspace extending upward from 700 feet above the surface within a 4.1-mile radius of the William R. Fairchild International Airport, and within a 4.1-mile radius of Port Angeles CGAS, and within 2.7 miles north and 4.3 miles south of the William R. Fairchild International Airport 079° bearing extending from the 4.1-mile radius to 11.4 miles east of the airport, and including the airspace within 1.8 miles either side of the William R. Fairchild International Airport 285° bearing extending from the 4.1-mile radius to 7 miles west of the airport; that airspace extending upward from 1,200 feet above the surface bounded on the east by the west edge of V-495, on the south by V-4, on the west by long. 124°02'05”W., and on the north by the United States/Canadian border.

Issued in Seattle, Washington, on August 12, 2010.
Robert Henry,
Acting Manager, Operations Support Group, Western Service Center.

[FR Doc. 2010-20521 Filed 8-18-10; 8:45 am]

BILLING CODE 4910-13-P